COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add services to the Procurement List that will be provided by nonprofit agencies employing persons who are blind or have other severe disabilities.

Comments Must Be Received On or Before: 1/6/2014.

ADDRESSES: Committee for Purchase From People Who Are Blind or Severely Disabled, 1401 S. Clark Street, Suite 10800, Arlington, Virginia 22202-4149.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type/Location: Custodial Service, U.S. Geological Survey, Patuxent Wildlife Research Center, 12100 Beech Forest Rd., Laurel, MD.

NPA: MVLE, Inc., Springfield, VA.

Contracting Activity: Dept of the Interior, Geological Survey, Office of Procurement And Contracts, Reston, VA.

Service Type/Location: Custodial Service, Directorate of Contracting Procurement Logistics Support Detachment, Undisclosed Location*, Ft. Belvoir, VA.

NPA: MVLE, Inc., Springfield, VA.

Contracting Activity: Directorate of Contracting Procurement Logistics Support Detachment, Fort Belvoir, VA.

* Additional Information: Contact Barry S. Lineback, blineback@abilityone.gov or 703-603-2118 if you require more information about the undisclosed location at which the service is to be performed.

Barry S. Lineback,
Director, Business Operations.

[FR Doc. 2013-29139 Filed 12-5-13; 8:45 am]

BILLING CODE 6353-01-P